DEPARTMENT OF COMMERCE

National Oceanic and Atmospheric Administration

RIN 0648-XE021

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow eight commercial fishing vessels to fish outside of the limited access sea scallop regulations in support of a study on seasonal bycatch distribution and optimal scallop meat yield on Georges Bank.

Regulations under the Magnuson-Stevens Fishery Conservation and Management Act require publication of this notification to provide interested parties the opportunity to comment on applications for proposed Exempted Fishing Permits.

DATES: Comments must be received on or before July 16, 2015.

ADDRESSES: You may submit written comments by any of the following methods:

• Email: nmfs.gar.efp@noaa.gov. Include in the subject line “DA15-036 CFF Georges Bank Optimization Study EFP.”

• Mail: John K. Bullard, Regional Administrator, NMFS, Greater Atlantic Regional Fisheries Office, 55 Great Republic Drive, Gloucester, MA 01930. Mark the outside of the envelope “DA15-036 CFF Georges Bank Optimization Study EFP.”

FOR FURTHER INFORMATION CONTACT: Shannah Jaburek, Fisheries Management Specialist, 978-282-8456.

SUPPLEMENTARY INFORMATION: NOAA awarded the Coonamesset Farm Foundation (CFF) a grant through the 2015 Atlantic sea scallop research set-aside program, in support of a project titled, “Optimizing the Georges Bank Scallop Fishery by Maximizing Meat Yield and Minimizing Bycatch.”

CFF submitted a complete application for an EFP on June 4, 2015. The project would look primarily at seasonal distribution of bycatch in relation to sea scallop meat weight yield while minimizing impacts to other stocks. Additional objectives include continued testing of a modified dredge bag design to reduce flatfish bycatch and collecting biological samples to examine scallop meat quality and yellowtail flounder liver disease. CFF is requesting exemptions that would allow eight commercial fishing vessels be exempt from the Atlantic sea scallop days-at-sea (DAS) allocations at 50 CFR 648.53(b); Closed Area II scallop gear restrictions specified at § 648.81(b); access area program requirements at § 648.60(a)(4); crew size restrictions at § 648.51(c); and possession limits and minimum size requirements specified in 50 CFR part 648, subsections B and D through O, for sampling purposes only.

Eight vessels would conduct scallop dredging in a year-round seasonal study on a total of eight 7-day trips, for a total of 56 DAS. Each trip would complete approximately 70 paired tows per trip for an overall total of 560 tows for the project. Closed Area II tows would take place in the central portion situated below the Closed Area II Habitat Closure Area of the Atlantic Sea Scallop Closed Area II Rotational Closed Area. Open area tows would be conducted on the northern half of Georges Bank west of the boundary of Closed Area II. CFF proposed tow locations inside the Closed Area II Habitat Closure Area. NOAA Fisheries does not believe that access to this area should be granted until a final outcome from the Omnibus Habitat Amendment II is determined, which is currently under development.

NOAA Fisheries recognizes there is a potential for gear conflict with lobster gear in the central portion of CAII. In an effort to help mitigate gear interactions, the project coordinator would distribute the time and location of stations to the lobster industry, work only during daylight hours, post an extra lookout to avoid gear, and conduct fishing operations in a way that avoids tangling in stationary gear. The lobster industry in relation to other actions has also expressed concern about the potential harvest of egg-bearing female lobsters in this area during the months of June-October. We do not expect the DAS, crew size or possession limits and minimum size exemptions to generate any controversy or concern. We will send the EFP notice to the Offshore Lobster association to ensure they are provided adequate opportunity to provide comment.

All tows would be conducted with two tandem 15-foot (4.57-meter) turtle deflector dredges for a duration of 30 minutes using an average tow speed of 4.8 knots. One dredge would be rigged with a 7-row apron and twine top hanging ratio of 2:1, while the other dredge would be rigged with a 5-row apron and 1.5:1 twine top hanging ratio. Both dredge frames would be rigged with identical rock and tickler chain configurations, 10-inch (25.4-cm) twine top, and 4-inch (10.16-cm) ring bag.

For all tows the entire sea scallop catch would be counted into baskets and weighed. One basket from each dredge would be randomly selected and the scallops would be measured in 5-mm increments to determine size selectivity. All finfish catch would be sorted by species and then counted and measured. Weight, sex, and reproductive state would be determined for a random subsample (n=10) of yellowtail, winter, and windowpane flounders. Lobsters would be measured, sexed, and evaluated for damage and shell disease. Maximum catch estimates for lobster for the project would be approximately 283 individuals. With the exception of samples retained for further processing, no catch would be retained for longer than needed to conduct sampling and no catch would be landed for sale.

Project Catch Estimates
Species: American Lobster | Minimum: —: lbs | Minimum: —: mt | Maximum: 283 individuals: lbs | Maximum: 283 individuals: mt
Scallops | 30,300 | 13.74 | 124,400 | 56.43
Yellowtail | 2,900 | 1.32 | 5,300 | 2.40
Winter Flounder | 1,700 | 0.77 | 2,700 | 1.22
Windowpane Flounder | 4,000 | 1.81 | 4,900 | 2.22
Monkfish | 12,600 | 5.72 | 18,400 | 8.35
Other Fish | 3,000 | 1.36 | 3,300 | 1.50
Barndoor Skate | 5,700 | 2.59 | 5,900 | 2.68
NE Skate Complex | 81,200 | 36.83 | 106,900 | 48.49

CFF needs these exemptions to allow them to conduct experimental dredge towing without being charged DAS, as well as deploy gear in areas that are currently closed to scallop fishing. Participating vessels need crew size waivers to accommodate science personnel and possession waivers will enable them to conduct finfish sampling activities.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 26, 2015.
Emily H. Menashes,
Acting Director, Office of Sustainable Fisheries, National Marine Fisheries Service.

[FR Doc. 2015-16189 Filed 6-30-15; 8:45 am]

BILLING CODE 3510-22-P